FEDERAL COMMUNICATIONS COMMISSION

47 CFR Part 73

[DA 06-342, MM Docket No. 01-5, RM-10028, RM-10107]

Radio Broadcasting Services; Butler and Reynolds, GA

AGENCY: Federal Communications Commission.

ACTION: Final rule; denial.

SUMMARY: The staff denied a petition for reconsideration filed by H. David Hedrick of a Report and Order this proceeding, which had denied Hedrick's rulemaking petition and granted a mutually exclusive allotment of Channel *245A at Reynolds, Georgia, reserved for noncommercial educational use. The staff determined that the reconsideration petition did not demonstrate any errors of fact or law and that Hedrick's rulemaking petition was properly rejected because he filed late comments. See 66 FR 5956 (February 8, 2002).

FOR FURTHER INFORMATION CONTACT: Andrew J. Rhodes, Media Bureau, (202) 418-2180.

SUPPLEMENTARY INFORMATION: This is a synopsis of the Commission's Memorandum Opinion and Order, MM Docket No. 01-5, adopted February 15, 2006, and released February 17, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. (The Commission, is, therefore, not required to submit a copy of this Memorandum Opinion and Order to GAO, pursuant to the Congressional Review Act, see 5 U.S.C. 801(a)(1)(A) because the petition for reconsideration was denied.)

Federal Communications Commission.
John A. Karousos,
Assistant Chief, Audio Division, Media Bureau.

[FR Doc. 06-2130 Filed 3-7-06; 8:45 am]

BILLING CODE 6712-01-P